DEPARTMENT OF TRANSPORTATION

Federal Aviation Administration

Correction to Notice of Availability (NOA) for Consensus Standards, Light-Sport Aircraft, Notice No. NOA-18-01

AGENCY: Federal Aviation Administration, DOT.

ACTION: Notice of correction.

SUMMARY: This action for NOA-18-01 corrects the designation for one of the consensus standards. NOA-18-01 announced the availability and requests comments on two new and two revised consensus standards relating to the provisions of the Sport Pilot and Light-Sport Aircraft rule.

FOR FURTHER INFORMATION CONTACT: Terry Chasteen, Light-Sport Aircraft Program Manager, Programs and Procedures, AIR-694, Small Airplane Standards Branch, Aircraft Certification Service, Federal Aviation Administration, 901 Locust, Room 301, Kansas City, Missouri 64106; telephone (816) 329-4147; email: terry.chasteen@faa.gov.

Correction

On October 3, 2018, the Federal Aviation Administration published Notice No. NOA-18-01 in the Federal Register (83 FR 49971). On page 49973, first column, the ASTM designation for “Standard Practice for Independent Audit Program for Light Aircraft Manufacturers” is changed from “F3206-17” to “F3205-17.”

Pat Mullen,
Manager, Small Airplane Standards Branch, Aircraft Certification Service.

[FR Doc. 2018-23009 Filed 10-19-18; 8:45 am]

BILLING CODE 4910-13-P